OFFICE OF PERSONNEL MANAGEMENT

Submission for Renewal of a Previously Approved Information Collection: Questionnaire for National Security Positions, Standard Form 86 (SF 86)

AGENCY: Office of Personnel Management.

ACTION: 60-Day notice and request for comments.

SUMMARY: In accordance with the Paperwork Reduction Act of 1995, the Office of Personnel Management (OPM) proposes to request the Office of Management and Budget (OMB) to renew a previously-approved information collection request (ICR), Questionnaire for National Security Positions, Standard Form 86 (SF 86).

DATES: Comments will be accepted until July 24, 2023.

ADDRESSES: You may submit comments, identified by docket number and/or Regulatory Information Number and title, by the following method:

Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR, with applicable supporting documentation, may be obtained by email to SuitEAForms@opm.gov, or by contacting Alexys Stanley, 202-606-1800, or U. S. Office of Personnel Management, Suitability Executive Agent Programs, P.O. Bo 699, Slippery Rock, PA 16057.

SUPPLEMENTARY INFORMATION: OPM is soliciting comments for this collection as required by the Paperwork Reduction Act of 1995 (Pub. L. 104-13 44 U.S.C. chapter 35) as amended by the Clinger-Cohen Act (Pub. L. 104-106). OPM is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

The Questionnaire for National Security Positions, Standard Form 86 (SF 86) is completed by civilian employees of the Federal Government, military personnel, and non-federal employees, including general contractors and individuals otherwise not directly employed by the Federal Government but who perform work for or on behalf of the Federal Government. For applicants for civilian Federal employment, the SF 86 is to be used only after a conditional offer of employment has been made. The Electronic Questionnaires for Investigations Processing (e-QIP) is a web-based system application that houses the SF 86. A variable in assessing burden hours is the nature of the electronic application. The electronic application includes branching questions and instructions which provide for a tailored collection from the respondent based on varying factors in the respondent's personal history. The burden on the respondent is reduced when the respondent's personal history is not relevant to particular questions, since the question branches, or expands for additional details, only for those persons who have pertinent information to provide regarding that line of questioning. Accordingly, the burden on the respondent will vary depending on whether the information collection relates to the respondent's personal history.

OPM recommends renewal of the form without any proposed changes. This recommendation is due to the forthcoming plan to replace the SF-86 with the Personnel Vetting Questionnaire, which is currently under review for approval by the Office of Management and Budget (87 FR 71700 and 88 FR 12703).

Analysis

Agency: U.S. Office of Personnel Management.

Title: Questionnaire for National Security Positions, Standard Form 86 (SF 86).

OMB Number: 3206-0005.

Frequency: On occasion.

Affected Public: Individuals.

Number of Respondents: 470,124.

Estimated Time per Respondent: 150 minutes.

Total Burden Hours: 1,175,310.

Office of Personnel Management.
Stephen Hickman,
Federal Register Liaison.

[FR Doc. 2023-11119 Filed 5-24-23; 8:45 am]

BILLING CODE 6325-53-P